DEPARTMENT OF AGRICULTURE

National Institute of Food and Agriculture

Solicitation of Input From Stakeholders on Agency Services

AGENCY: National Institute of Food and Agriculture, USDA.

ACTION: Request for written stakeholder input.

SUMMARY: The National Institute of Food and Agriculture (NIFA) is requesting written stakeholder input on agency services.

The purpose of this Notice is to assist NIFA in optimizing delivery of services and better serve stakeholders' and partners' research, extension, and education needs. NIFA plans to consider all stakeholder input received in response to this Notice.

DATES: Submission of stakeholder input to the target questions will be open upon publishing of the Notice through 5 p.m. Eastern time April 03, 2020.

Comments: Written comments are due by 5 p.m. Eastern time April 03, 2020. Written comments must be emailed to NIFAProjectCAFE@usda.gov with the Subject Title, “NIFA Service Delivery Input.” Comments received after that date will be considered to the extent practicable.

FOR FURTHER INFORMATION CONTACT: William Hoffman, 202-401-1112 (phone), NIFAProjectCAFE@usda.gov.

SUPPLEMENTARY INFORMATION: As NIFA enters its second decade, the agency seeks stakeholder input on how to optimize delivery of services in order to enhance NIFA's ability to provide excellent customer service to external and internal partners. This stakeholder input opportunity informs the effectiveness and efficiency of NIFA by optimizing service delivery approaches to be aligned with current business practices and technologies in order to better meet the agency's mission of investing in and advancing agricultural research, education, and extension to solve societal challenges.

Stakeholders are asked to respond to the following questions:

(1.) How can NIFA improve delivery of capacity programs in order to best support research and extension?

(2.) What changes should NIFA consider regarding implementation of competitive programs?

(3.) How can NIFA increase transparency and effectiveness?

(4.) What steps can NIFA take to enhance customer experience?

NIFA welcomes stakeholder input from any group or individual interested in the agency's delivery of services. NIFA is eager to listen to stakeholder's comments on solutions and opportunities that will facilitate a more efficient and customer focused NIFA in the near future and beyond. This input opportunity will focus only on NIFA's delivery of services.

Done at Washington, DC, this 20th day of February 2020.
Stephen L. Censky,
Deputy Secretary, U.S. Department of Agriculture.

[FR Doc. 2020-04158 Filed 2-28-20; 8:45 am]

BILLING CODE 3410-22-P